DEPARTMENT OF THE TREASURY

Internal Revenue Service

Open Meeting of the Earned Income Tax Credit Committee of the Taxpayer Advocacy Panel

AGENCY: Internal Revenue Service (IRS), Treasury.

ACTION: Notice.

SUMMARY: An open meeting of the Earned Income Tax Credit Committee of the Taxpayer Advocacy Panel will be conducted at the Internal Revenue Service, 1111 Constitution Avenue, NW., Washington, DC 20224, in Room 7718. The Committee will be discussing issues pertaining to the IRS administration of the Earned Income Tax Credit.

DATES: The meeting will be held Friday, April 21, 2006, from 9 a.m. through 12 noon ET.

FOR FURTHER INFORMATION CONTACT: Audrey Y. Jenkins at 1-888-912-1227 (toll-free), or 718-488-2085 (non toll-free).

SUPPLEMENTARY INFORMATION: Notice is hereby given pursuant to Section 10(a) (2) of the Federal Advisory Committee Act, 5 U.S.C. App. (1988) that an open meeting of the Earned Income Tax Credit Committee of the Taxpayer Advocacy Panel will be held Friday, April 21, 2006 from 9 a.m. to 12 p.m. ET at 1111 Constitution Avenue, NW., Washington, DC 20224, Room 7718. The public is invited to make oral comments. Individual comments will be limited to 5 minutes. For information or to confirm attendance, contact Audrey Y. Jenkins as noted above. Notification of intent to participate in the meeting must be made with Ms. Jenkins. If you would like a written statement to be considered, send written comments to Ms. Audrey Y. Jenkins, TAP Office, 10 MetroTech Center, 625 Fulton Street, Brooklyn, NY 11201 or post your comments to the Web site: http://www.improveirs.org. The agenda will include various IRS issues.

Dated: March 21, 2006.
John Fay,
Acting Director, Taxpayer Advocacy Panel.

[FR Doc. E6-4341 Filed 3-24-06; 8:45 am]

BILLING CODE 4830-01-P